DEPARTMENT OF COMMERCE

National Oceanic and Atmospheric Administration

[RTID 0648-XD120]

Council Coordination Committee Meeting

AGENCY: National Marine Fisheries Service (NMFS), National Oceanic and Atmospheric Administration (NOAA), Department of Commerce.

ACTION: Notice of a public meeting; information regarding the agenda.

SUMMARY: The National Marine Fisheries Service, Office of Sustainable Fisheries, will host an interim session of the Council Coordination Committee (CCC), consisting of the Regional Fishery Management Council chairs, vice chairs, and executive directors, on July 17, 2023. The intent of this virtual meeting is to discuss priorities and process for distributing funds provided under the Inflation Reduction Act (IRA) to the Councils for climate-ready fisheries and to describe the agencies planned investment in various scientific data collection, processing, and analysis efforts with IRA funds.

DATES: The meeting will begin at 4 p.m. Eastern Daylight Time (EDT) on Monday, July 17, adjourning at 5:30 p.m. EDT.

ADDRESSES: The meeting will be held online via WebEx. Webinar information to join the meeting can be found at https://www.fisheries.noaa.gov/national/partners/council-coordination-committee.

FOR FURTHER INFORMATION CONTACT: Morgan Corey by email at Morgan.Corey@noaa.gov or at (301) 427-8500.

SUPPLEMENTARY INFORMATION: The IRA is a historic, Federal Government-wide investment that furthers efforts to build a Climate-Ready Nation. NMFS will receive an unprecedented investment to strengthen the agency's core mission to provide science-based management and conservation of the Nation's marine resources as we confront climate change.

During this interim CCC session, NMFS will outline the process for providing IRA funding to the Councils to advance climate-ready fisheries management. Actions funded under IRA for the Councils sub-component will contribute to the following goals: implementation of fishery management measures necessary to improve climate resiliency and responsiveness to climate impacts, and development and advancement of climate-related fisheries management planning and implementation efforts in support of underserved communities.

In addition, NMFS will provide an overview of how IRA funding will be used in the Data Acquisition and Management sub-component. Actions funded under this sub-component will use advanced technologies, including data management, to improve and expand observation and sampling capabilities of critical fish, protected species, ecosystem, and climate data in order to understand where climate-driven shifts in distribution of fish and other key living marine resources are occurring.

The 2007 reauthorization of the Magnuson-Stevens Fishery Conservation and Management Act established the CCC. The CCC consists of the chairs, vice chairs, and executive directors of each of the eight Regional Fishery Management Councils.

Proposed Agenda

Monday, July 17, 2023—4 p.m.-5:30 p.m. EDT

1. Data Acquisition and Management Funding Overview & Discussion

2. Regional Fishery Management Councils Funding Overview & Discussion

3. Public Comment

4. Close of Meeting

Special Accommodations

If you have particular access needs please contact Morgan Corey at Morgan.Corey@noaa.gov at least 7 business days prior to the meeting for accommodation.

Dated: June 27, 2023.
Jennifer M. Wallace,
Acting Director, Office of Sustainable Fisheries, National Marine Fisheries Service.

[FR Doc. 2023-13991 Filed 6-29-23; 8:45 am]

BILLING CODE 3510-22-P